DEPARTMENT OF COMMERCE

International Trade Administration

[A-570-898]

Chlorinated Isocyanurates From the People's Republic of China: Final Results of Antidumping Duty Administrative Review; 2012-2013

AGENCY: Enforcement and Compliance, Department of Commerce.

SUMMARY: On July 25, 2014, the Department of Commerce (the Department) published its Preliminary Results of the administrative review of the antidumping duty order on chlorinated isocyanurates (chloro isos) from the People's Republic of China (PRC).¹ The period of review (POR) is June 1, 2012, through May 31, 2013. This review covers five producers/exporters: (1) Arch Chemicals (China) Co. Ltd. (Arch China); (2) Hebei Jiheng Chemical Co., Ltd.(Jiheng); (3) Heze Huayi Chemical Co. Ltd. (Heze); (4) Juancheng Kangtai Chemical Co., Ltd. (Kangtai); and (5) Zhucheng Taisheng Chemical Co., Ltd. (Zhucheng). Jiheng and Kangtai are the two producers/exporters being individually examined as mandatory respondents. We invited parties to comment on our Preliminary Results. Based on our analysis of the comments received, we made certain changes to our margin calculations for Jiheng and Kangtai. The final dumping margins for this review are listed in the “Final Results” section below.

¹ See Chlorinated Isocyanurates From the People's Republic of China: Preliminary Results of Antidumping Duty Administrative Review; 2012-2013, 79 FR 43391 (July 25, 2014) (Preliminary Results).

DATES: Effective Date: January 28, 2015.

FOR FURTHER INFORMATION CONTACT: Sean Cary, AD/CVD Operations, Office VII, Enforcement and Compliance, International Trade Administration, U.S. Department of Commerce, 14th Street and Constitution Avenue NW., Washington, DC 20230; telephone: (202) 482-3964 or (202) 482-0176, respectively.

SUPPLEMENTARY INFORMATION:

Background

On July 25, 2014, the Department published its Preliminary Results. On July 30, 2014, the Department extended the deadline for the filing of case and rebuttal briefs.² On September 8 and 9, 2014, Clearon Corporation and Occidental Chemical Corporation (collectively, Petitioners), Jiheng, and Kangtai each submitted a case brief.³ On September 18 and 19, 2014, Petitioners, Jiheng, and Kangtai each submitted a rebuttal brief.⁴

² See Memorandum to the File, “2012-2013 Administrative Review of the Antidumping Duty Order on Chlorinated Isocyanurates From the People's Republic of China: Phone Call with Counsel for Kangtai,” (July 30, 2014), denying Kangtai's request for an additional questionnaire and directing interested parties to address this issue in their briefs.

³ See “Eighth Administrative Review of the Antidumping Order on Chlorinated Isocyanurates From the People's Republic of China: Case Brief of Clearon Corp. and Occidental Chemical Corporation,” (September 8, 2014) (Petitioners' Case Brief); “Chlorinated Isocyanurates From the People's Republic of China (8th Administrative Review): Case Brief,” (September 8, 2014) (Jiheng's Case Brief); and, “Certain Chlorinated Isocyanurates From the People's Republic of China Case Brief,” (September 9, 2014)(Kangtai's Case Brief).

⁴ See “Rebuttal Brief in the Administrative Review on Chlorinated Isocyanurates From the People's Republic of China,” (September 18, 2014)(Petitioners' Rebuttal Brief); “Chlorinated Isocyanurates From the People's Republic of China (8th Administrative Review): Rebuttal Brief,” (September 17, 2014)(Jiheng's Rebuttal Brief); and, “Chlorinated Isocyanurates From the People's Republic of China Rebuttal Brief,” (September 17, 2014)(Kangtai's Rebuttal Brief).

On August 25, 2014, Kangtai submitted a hearing request to address issues raised in their case and rebuttal briefs. On October 16, 2014, the Department extended the deadline for the final results in this administrative review until December 22, 2014.⁵ On December 8, 2014, we fully extended the deadline for these final results until January 21, 2015.⁶ We held a public hearing on December 4, 2014.⁷

⁵ See Memorandum to Christian Marsh, Deputy Assistant Secretary for Antidumping and Countervailing Duty Operations, “Chlorinated Isocyanurates From the People's Republic of China: Extension of Deadline for Final Results of Antidumping Duty Administrative Review,” (October 16, 2014).

⁶ See Memorandum to Christian Marsh, Deputy Assistant Secretary for Antidumping and Countervailing Duty Operations, “Chlorinated Isocyanurates From the People's Republic of China: Extension of Deadline for Final Results of Antidumping Duty Administrative Review,” (December 8, 2014).

⁷ See Hearing Transcript, “Public Hearing in the Matter of: Administrative Review Under the Antidumping Duty Order on Chlorinated Isocyanurates From the People's Republic of China,” (December 15, 2014).

Scope of the Order

The products covered by the order are chlorinated isos, which are derivatives of cyanuric acid, described as chlorinated s-triazine triones. Chlorinated isos are currently classifiable under subheadings 2933.69.6015, 2933.69.6021, 2933.69.6050, 3808.40.50, 3808.50.40 and 3808.94.5000 of the Harmonized Tariff Schedule of the United States.⁸

⁸ See Memorandum to Paul Piquado, Assistant Secretary for Enforcement and Compliance, “Decision Memorandum for the Final Results of Antidumping Duty Administrative Review: Chlorinated Isocyanurates From the People's Republic of China; 2012-2013,” issued concurrently with this notice (Issues and Decision Memorandum) for a complete description of the scope of the Order.

Analysis of Comments Received

All issues raised in the case and rebuttal briefs filed by parties in this review are addressed in the Issues and Decision Memorandum, which is hereby adopted by this notice. A list of the issues that parties raised and to which we responded in the Issues and Decision Memorandum follows as an appendix to this notice. The Issues and Decision Memorandum is a public document and is on file electronically via Enforcement and Compliance's Antidumping and Countervailing Duty Centralized Electronic Service System (“ACCESS”).⁹ ACCESS is available to registered users at http://access.trade.gov and to all parties in the Central Records Unit, room 7046 of the main Department of Commerce building. In addition, a complete version of the Issues and Decision Memorandum can be accessed directly on the Internet at http://trade.gov/enforcement/frn/index.html. The paper copy and electronic version of the Issues and Decision Memorandum are identical in content.

⁹ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Changes Since the Preliminary Results

Based on a review of the record and comments received from interested parties regarding our Preliminary Results, we have made revisions to the margin calculations for Jiheng and Kangtai.¹⁰

¹⁰ See Issues and Decision Memorandum.

Separate Rates

In our Preliminary Results, we determined that Arch China, Heze, and Zhucheng each demonstrated their eligibility for separate rates status.¹¹ We have not received any information since the issuance of the Preliminary Results that provides a basis for reconsideration of this determination. Therefore, the Department continues to find that Arch China, Heze, and Zhucheng are each eligible for separate rate status.

¹¹ See Memorandum to Paul Piquado, Assistant Secretary for Import Administration, “Decision Memorandum for the Preliminary Results of the 2011-2012 Antidumping Duty Administrative Review: Chlorinated Isocyanurates From the People's Republic of China,” (July 17, 2014) at 3-6.

Final Results

We determine that the following weighted-average dumping margins exist for the POR:

Exporter | Weighted-average dumping margin (percentage)
Arch Chemicals (China) Co. Ltd.* | 53.15
Hebei Jiheng Chemical Co., Ltd. | 0.00
Juancheng Kangtai Chemical Co., Ltd. | 0.00
Heze Huayi Chemical Co. Ltd.* | 53.15
Zhucheng Taisheng Chemical Co., Ltd.* | 53.15
* For these final results, we determine that the application of the separate rate from the Seventh Review to the non-examined separate rate respondents is consistent with our past practice and a reasonable method to determine the separate rate in the instant review because both of our mandatory respondents received zero margins and none of the separate rate companies has its own calculated rate from the segment immediately prior to the instant segment. Pursuant to this method, we are assigning the rate of 53.15 percent to the non-examined separate rate respondents in the instant review.¹²

Assessment Rates

¹² See Chlorinated Isocyanurates from the People's Republic of China; 2011-2012; Final Results of Antidumping Duty Administrative Review, 79 FR 4875, 4876 (January 30, 2014) (Seventh Review).

The Department will determine, and U.S. Customs and Border Protection (CBP) shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer-specific assessment rates on the basis of the ratio of the total amount of dumping calculated for the importer's examined sales and the total entered value of sales.¹³ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

¹³ See Antidumping Proceedings: Calculation of the Weighted-Average Dumping Margin and Assessment Rate in Certain Antidumping Proceedings: Final Modification, 77 FR 8101 (February 14, 2012).

The Department announced a refinement to its assessment practice in non-market economy (NME) cases. Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate. For a full discussion of this practice, see Assessment in NME Antidumping Proceedings.¹⁴

¹⁴ See Non-Market Economy Antidumping Proceedings: Assessment of Antidumping Duties, 76 FR 65694 (October 24, 2011) (Assessment in NME Antidumping Proceedings).

Cash Deposit Requirements

The following cash deposit requirements will be effective upon publication of the final results of this administrative review for shipments of the subject merchandise from the PRC entered, or withdrawn from warehouse, for consumption on or after the publication date, as provided by section 751(a)(2)(C) of the Tariff Act of 1930, as amended (the Act): (1) For the exporter's listed above, the cash deposit rate will be the rate established in the final results of this review (except, if the rate is zero or de minimis, a zero cash deposit rate will be required for that company); (2) for previously investigated or reviewed PRC and non-PRC exporters not listed above that have separate rates, the cash deposit rate will continue to be the existing producer/exporter-specific rate published for the most recent period; (3) for all PRC exporters of subject merchandise that have not been found to be eligible for a separate rate, the cash deposit rate will be the PRC-wide rate of 285.63 percent; ¹⁵ and (4) for all non-PRC exporters of subject merchandise which have not received their own rate, the cash deposit rate will be the rate applicable to the PRC exporter(s) that supplied that non-PRC exporter. These deposit requirements, when imposed, shall remain in effect until further notice.

¹⁵ For an explanation on the derivation of the PRC-wide rate, see Notice of Final Determination of Sales at Less Than Fair Value: Chlorinated Isocyanurates From the People's Republic of China, 70 FR 24502, 24505 (May 10, 2005).

Disclosure

We will disclose the calculations performed regarding these final results within five days of the date of publication of this notice in this proceeding in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and that subsequent assessment of doubled antidumping duties.

Administrative Protective Order

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(1) and 777(i) of the Act.

Dated: January 21, 2015.
Paul Piquado,
Assistant Secretary for Enforcement and Compliance.

Appendix—Issues and Decision Memorandum

Comment 1: Selection of Surrogate Country

Comment 2: Surrogate Value Selection

A. Chlorine

B. Hydrogen

C. Financial Ratios

Comment 3: Whether the Department Is Authorized by Law To Apply the Alternative Methodology Under Section 777A(d)(1)(B) of the Act to Annual Reviews

Comment 4: Methodological Issues

A. Value-Added Tax (VAT) Adjustment for Kangtai's and Jiheng's U.S. Sales

B. Downstream By-Product Offset for Ammonium Sulfate

C. Recalculating Jiheng's Hydrogen By-Product Offset

D. Calculation of Jiheng's Electricity Rates

Comment 5: Ministerial Errors

A. Double-Counting of Chlorine Input

B. Calculation of Jiheng's Market Economy Brokerage and Handling Charges

C. Double-Counting of Jiheng's Market Economy Brokerage and Handling Charges in Both Domestic and International Movement Expenses

[FR Doc. 2015-01604 Filed 1-27-15; 8:45 am]

BILLING CODE 3510-DS-P